ENVIRONMENTAL PROTECTION AGENCY

40 CFR Parts 174 and 180

[EPA-HQ-OPP-2022-0161; FRL-9410-05-OCSPP]

Receipt of Pesticide Petitions Filed for Residues of Pesticide Chemicals in or on Various Commodities (August 2022)

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before October 24, 2022.

ADDRESSES: Submit your comments, identified by docket identification (ID) number EPA-HQ-OPP-2022-0161, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Biopesticides and Pollution Prevention Division (BPPD) (7511M), main telephone number: (202) 566-1400, email address: BPPDFRNotices@epa.gov; or Marietta Echeverria, Registration Division (RD) (7505P), main telephone number: (703) 305-7090, email address: RDFRNotices@epa.gov. The mailing address for each contact person is Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at https://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Notice of Filing—New Tolerance Exemptions for Inerts (Except PIPS)

1. PP IN-11673. EPA-HQ-OPP-2022-0737. RRStewart Consulting, LLC, on behalf of Aicello America Corporation, 182 Nassau Street, Princeton, NJ 08542, requests to establish an exemption from the requirement of a tolerance for residues of diglycerol (CAS No. 59113-36-9) as a plasticizer inert ingredient in pesticide formulations applied pre- and post-harvest to crops under 40 CFR 180.910. The petitioner believes no analytical method is needed because it is not required for an exemption from the requirement of a tolerance. Contact: RD.

2. PP IN-11712. EPA-HQ-OPP-2022-0711. Delta Analytical Corporation, on behalf of Borchers Americas, Inc., 811 Sharon Drive, Westlake, OH 44145, requests to establish an exemption from the requirement of a tolerance for α-D-Glucopyranoside, β-D-fructofuranosyl, polymer with methyloxirane and oxirane with a minimum number average molecular weight (in amu) of 9,820 (CAS Reg. No. 26301-10-0), when used as a pesticide inert ingredient (wetting agent) in pesticide formulations under 40 CFR 180.960. The petitioner believes no analytical method is needed because it is not required for an exemption from the requirement of a tolerance. Contact: RD.

B. New Tolerance Exemptions for Inerts (Except PIPS)

PP IN-11712. EPA-HQ-OPP-2022-0711. Delta Analytical Corporation, on behalf of Borchers Americas, Inc., 811 Sharon Drive, Westlake, OH 44145, requests to establish an exemption from the requirement of a tolerance for α-D-Glucopyranoside, β-D-fructofuranosyl, polymer with methyloxirane and oxirane with a minimum number average molecular weight (in amu) of 9,820 (CAS Reg. No. 26301-10-0), when used as a pesticide inert ingredient (wetting agent) in pesticide formulations under 40 CFR 180.960. The petitioner believes no analytical method is needed because it is not required for an exemption from the requirement of a tolerance. Contact: RD.

C. New Tolerance Exemptions for Non-Inerts (Except PIPS)

1. PP 1F8959. EPA-HQ-OPP-2022-0716. Crop Enhancement, 2186 Bering Drive, San Jose, California 95131, requests to establish an exemption from the requirement of a tolerance in 40 CFR part 180 for residues of the insecticide/miticide linseed oil in or on all raw agricultural commodities. The petitioner believes no analytical method is needed because an exemption from the requirement of a tolerance is being proposed. Contact: BPPD.

2. PP 2F9018. EPA-HQ-OPP-2022-0743. Columbia River Carbonates, 300 North Pekin Road, Woodland, Washington 98674, requests to establish an exemption from the requirement of a tolerance in 40 CFR part 180 for residues of the biochemical active ingredient calcium carbonate in or on all agricultural food commodities. The analytical method Inductively Coupled Plasma-Optical Emission Spectrometer (ICP-OES) analysis of test item and reference standard is available to EPA for the detection and measurement of the pesticide residues. Contact: BPPD.

D. New Tolerances for Non-Inerts

1. PP 2E9008. EPA-HQ-OPP-2022-0576. BASF Corporation, Agricultural Products, P.O. Box 13528, 26 Davis Drive, Research Triangle Park, NC 27709, requests to establish a tolerance in 40 CFR part 180 for residues of the herbicide, imazapic in or on rice, grain at 0.05 parts per million (ppm) and in or on rice, bran at 0.2 ppm. The Liquid Chromatography-Mass spectrometry (LC-MS/MS) is used to measure and evaluate the chemical imazapic. Contact: RD.

2. PP 2E9009. EPA-HQ-OPP-2022-0577. BASF Corporation, Agricultural Products, P.O. Box 13528, 26 Davis Drive, Research Triangle Park, NC 27709, requests to establish a tolerance in 40 CFR part 180 for residues of the herbicide imazapyr in or on rice, grain at 0.06 ppm and in or on rice, bran at 0.2 ppm. The LC-MS/MS is used to measure and evaluate the chemical imazapyr. Contact: RD.

3. PP 2E9011. EPA-HQ-OPP-2022-0672. American Spice Trade Association, 1101 17th Street NW, Suite 700, Washington, DC 20036, requests to establish a tolerance in 40 CFR part 180 for residues of the pesticide, cypermethrin, in or on raw agricultural spice commodities: Allspice; anise pepper; ashwagandha fruit; batavia-cassia, fruit; belleric myrobalan; caper buds; cardamom, black; cardamom, ethopian; cardamom, green; cardamom, nepal; cardamom-amomum; cassia, fruit; cassia, chinese, fruit; chinese hawthorn; chinese-pepper; cinnamon, fruit; cinnamon, saigon, fruit; coriander, fruit; cumin, black; dorrigo pepper, berry; dorrigo pepper, leaf; eucalyptus; gamboge; grains of selim; juniper, berry; miracle fruit; pepper, black; pepper, indian long; pepper, javanese long; pepper, pink; pepper, sichuan; pepper, white; pepperbush, berry; pepperbush, leaf; peppercorn, green; peppertree; peppertree, peruvian; saunders, red; sumac, fragrant; sumac, smooth, leaf; tamarind, seed; tasmanian, pepper, berry; tsaoko; vanilla, at 0.5 ppm; and angelica, seed; asafoetida; calamus-root; chaste tree, chinese, roots; coptis; coriander, seed; fingerroot; jalap; lovage, root; lovage, seed; yellow gentian, roots at 0.2 ppm. The gas chromatography with electron capture detection (GC/ECD) analytical method is used to measure and evaluate the chemical cypermethrin. Contact: RD.

E. New Tolerances for Non-Inerts

1. PP 2E9006. EPA-HQ-OPP-2022-0645. Interregional Research Project Number 4 (IR-4), IR-4 Project Headquarters, North Carolina State University, 1730 Varsity Drive, Venture IV, Suite 210, Raleigh, NC 27606, requests to establish a tolerance in 40 CFR 180.532 for residues of the fungicide, cyprodinil 4-cyclopropyl-6-methyl-N-phenyl-2-pyrimidinamine in or on cranberry at 0.4 ppm. Analytical method AG-631B was used to measure and evaluate the chemical. Contact: RD.

2. PP 2E9008. EPA-HQ-OPP-2022-0576. BASF Corporation, Agricultural Products, P.O. Box 13528, 26 Davis Drive, Research Triangle Park, NC 27709, requests to establish a tolerance in 40 CFR part 180 for residues of the herbicide, imazapic in or on rice, grain at 0.05 ppm and in or on rice, bran at 0.2 ppm. The LC-MS/MS is used to measure and evaluate the chemical imazapic. Contact: RD.

3. PP 2E9009. EPA-HQ-OPP-2022-0577. BASF Corporation, Agricultural Products, P.O. Box 13528, 26 Davis Drive, Research Triangle Park, NC 27709, requests to establish a tolerance in 40 CFR part 180 for residues of the herbicide imazapyr in or on rice, grain at 0.06 ppm and in or on rice, bran at 0.2 ppm. The LC-MS/MS is used to measure and evaluate the chemical imazapyr. Contact: RD.

4. PP 2E9011. EPA-HQ-OPP-2022-0672. American Spice Trade Association, 1101 17th Street NW, Suite 700, Washington, DC 20036, requests to establish a tolerance in 40 CFR part 180 for residues of the pesticide, cypermethrin, in or on raw agricultural spice commodities: Allspice; anise pepper; ashwagandha fruit; batavia-cassia, fruit; belleric myrobalan; caper buds; cardamom, black; cardamom, ethopian; cardamom, green; cardamom, nepal; cardamom-amomum; cassia, fruit; cassia, chinese, fruit; chinese hawthorn; chinese-pepper; cinnamon, fruit; cinnamon, saigon, fruit; coriander, fruit; cumin, black; dorrigo pepper, berry; dorrigo pepper, leaf; eucalyptus; gamboge; grains of selim; juniper, berry; miracle fruit; pepper, black; pepper, indian long; pepper, javanese long; pepper, pink; pepper, sichuan; pepper, white; pepperbush, berry; pepperbush, leaf; peppercorn, green; peppertree; peppertree, peruvian; saunders, red; sumac, fragrant; sumac, smooth, leaf; tamarind, seed; tasmanian, pepper, berry; tsaoko; vanilla, at 0.5 ppm; and angelica, seed; asafoetida; calamus-root; chaste tree, chinese, roots; coptis; coriander, seed; fingerroot; jalap; lovage, root; lovage, seed; yellow gentian, roots at 0.2 ppm. The GC/ECD analytical method is used to measure and evaluate the chemical cypermethrin. Contact: RD.

Authority: 21 U.S.C. 346a.

Dated: September 16, 2022.
Delores Barber,
Director, Information Technology and Resources Management Division, Office of Program Support.

[FR Doc. 2022-20441 Filed 9-22-22; 8:45 am]

BILLING CODE 6560-50-P